FEDERAL COMMUNICATIONS COMMISSION

47 CFR Parts 1 and 43

[WC Docket No. 07-38; FCC 08-89, 08-148]

Development of Nationwide Broadband Data To Evaluate Reasonable and Timely Deployment of Advanced Services to All Americans, Improvement of Wireless Broadband Subscribership Data, and Development of Data on Interconnected Voice over Internet Protocol (VoIP) Subscribership

AGENCY: Federal Communications Commission.

ACTION: Final rule; announcement of effective date.

SUMMARY: The Federal Communications Commission published a document in the Federal Register that contained new information collection requirements. This document announces that, on January 30, 2009, the Office of Management and Budget (OMB) gave approval for these information requirements contained in the Commission's Report and Order and Further Notice of Proposed Rulemaking, as well as the Order on Reconsideration, Development of Nationwide Broadband Data To Evaluate Reasonable and Timely Deployment of Advanced Services to All Americans, Improvement of Wireless Broadband Subscribership Data, and Development of Data on Interconnected Voice over Internet Protocol (VoIP) Subscribership.

DATES: The amendments to 47 CFR 1.7001 and 47 CFR 43.11 in the final rule published July 2, 2008, at 73 FR 37869 are effective November 7, 2011.

FOR FURTHER INFORMATION CONTACT: Jeremy Miller, Industry Analysis and Technology Division, Wireline Competition Bureau, at (202) 418-1507, or via the Internet at jeremy.miller@fcc.gov.

SUPPLEMENTARY INFORMATION: The Federal Communications Commission has received OMB approval for the rules contained in information collection OMB Control No. 3060-0816, Local Telephone Competition and Broadband Reporting. The information collection was adopted in two orders: (1) The Report and Order and Notice of Proposed Rulemaking, Development of Nationwide Broadband Data To Evaluate Reasonable and Timely Deployment of Advanced Services to All Americans, Improvement of Wireless Broadband Subscribership Data, and Development of Data on Interconnected Voice over Internet Protocol (VoIP) Subscribership in WC Docket No. 07-38, which appears at 73 FR 37869, July 2, 2008, and (2) the Order on Reconsideration, Development of Nationwide Broadband Data To Evaluate Reasonable and Timely Deployment of Advanced Services to All Americans, Improvement of Wireless Broadband Subscribership Data, and Development of Data on Interconnected Voice over Internet Protocol (VoIP) Subscribership in WC Docket No. 07-38, which appears at 73 FR 37861, July 2, 2008. These information requests required OMB approval to be effective. Through this document, the Commission announces that it has received this approval (OMB Control No. 3060-0816, Expiration Date: April 30, 2013), and that the adopted rules are in effect. Pursuant to the Paperwork Reduction Act of 1995, Public Law 104-13, an agency may not conduct or sponsor a collection of information unless it displays a currently valid control number. Notwithstanding any other provisions of law, no person shall be subject to any penalty for failing to comply with a collection of information subject to the Paperwork Reduction Act (PRA) that does not display a valid control number. Questions concerning the OMB control numbers and expiration dates should be directed to Judith Boley-Herman, Federal Communications Commission, (202) 418-0214, or via the Internet at Judith-B.Herman@fcc.gov.

Accordingly, the amendments to 47 CFR 1.7001 and 47 CFR 43.11 in the final rule published July 2, 2008, at 73 FR 37869 are effective November 7, 2011.

Federal Communications Commission.
Marlene H. Dortch,
Secretary.

[FR Doc. 2011-26947 Filed 11-4-11; 8:45 am]

BILLING CODE 6712-01-P